DEPARTMENT OF ENERGY

National Nuclear Security Administration

Notice of Intent To Prepare an Environmental Impact Statement for Plutonium Pit Production at the Savannah River Site

AGENCY: National Nuclear Security Administration, Department of Energy.

ACTION: Notice of intent.

SUMMARY: The Department of Energy (DOE) National Nuclear Security Administration (NNSA) hereby announces its intent, consistent with the National Environmental Policy Act (NEPA), to prepare an environmental impact statement (EIS) for plutonium pit production at the Savannah River Site (SRS) in South Carolina (the SRS EIS). The 2018 Nuclear Posture Review announced that the United States will pursue initiatives to ensure the necessary capability, capacity, and responsiveness of the nuclear weapons infrastructure and the needed skill of the workforce, including providing the enduring capability and capacity to produce no fewer than 80 plutonium pits per year by 2030. To achieve the Department of Defense (DoD) requirement, NNSA is proposing to repurpose the Mixed Oxide Fuel Fabrication Facility (MFFF) at SRS to produce plutonium pits while also maximizing pit production activities at Los Alamos National Laboratory (LANL) in New Mexico. NNSA also hereby provides information regarding its overall NEPA strategy related to fulfilling national requirements for pit production. NNSA will first conduct a programmatic review to assist in decisions and second conduct site-specific reviews. NNSA anticipates that it will prepare at least three documents including: A supplement analysis (SA) to the Final Complex Transformation Supplemental Programmatic EIS (Complex Transformation SPEIS); a site-specific EIS for the proposal to produce pits at SRS; and site-specific documentation for the proposal to authorize expanding pit production at LANL.

DATES: NNSA invites Federal and state agencies, state and local governments, Native American tribes, industry, other organizations, and members of the public to submit comments to assist in identifying environmental issues and in determining the appropriate scope of the SRS EIS until July 25, 2019. Comments received after this date will be considered to the extent practicable. NNSA will hold one public scoping meeting for the proposed EIS as follows:

• June 27, 2019 (5:00 p.m.-9:00 p.m. EST) at the North Augusta Community Center, 495 Brookside Ave. North Augusta, SC 29841.

Doors will open at 5:00 p.m. on June 27, 2019 at the community center for the public to view posters on display. NNSA will provide a brief presentation on the EIS beginning at 6:00 p.m. and then NNSA will accept public comments on the scope of the EIS.

ADDRESSES: Written comments on the scope of the EIS, requests to be placed on the EIS distribution list, and comments or questions on the scoping process should be sent to: Ms. Jennifer Nelson, NEPA Document Manager, National Nuclear Security Administration Savannah River Field Office, P.O. Box A, Aiken, SC 29802 or email to NEPA-SRS@srs.gov. If you would like to pre-register to comment during the public scoping meeting, send an email to NEPA-SRS@srs.gov. Before including your address, phone number, email address, or other personal identifying information in your comment, please be advised that your entire comment—including your personal identifying information—may be made publicly available. If you wish for NNSA to withhold your name and/or other personally identifiable information, please state this prominently at the beginning of your comment. You may also submit comments anonymously. Also, NNSA requests Federal, State, and local agencies that desire to be designated as cooperating agencies on the EIS to contact the NEPA Document Manager at the address listed in this section by the end of the scoping period.

FOR FURTHER INFORMATION CONTACT: For further information about this Notice, please contact Mr. James R. Sanderson, Office of NEPA Policy and Compliance, U.S. Department of Energy, 1000 Independence Avenue SW, Washington, DC 20585-0119, email to: NEPA-SRS@srs.gov.

This Notice will be available on the internet at: https://www.energy.gov/nepa/listings/notices-intent-noi.

SUPPLEMENTARY INFORMATION:

Background

National security policies require DOE, through NNSA, to maintain the United States' nuclear weapons stockpile, as well as the nation's core competencies in nuclear weapons. NNSA, a semi-autonomous agency within the DOE, has the mission to maintain and enhance the safety, security, and effectiveness of the nuclear weapons stockpile.

Plutonium pits are critical components of every nuclear weapon, with nearly all current stockpile pits having been produced from 1978-1989. Today, the United States' capability to produce plutonium pits is limited. To produce pits with enhanced safety features to meet NNSA and DoD requirements, mitigate against the risk of plutonium aging, and respond to changes in deterrent requirements driven by growing threats from peer competitors, the Department of Defense (DoD) requires NNSA to produce no fewer than 80 plutonium pits per year by 2030, and to sustain the capacity for future (Life Extension Programs and follow-on) programs.

NNSA's pit production mission was emphasized as a national security imperative by the 2018 Nuclear Posture Review, issued in February 2018 by the Office of the Secretary of Defense and subsequent Congressional statements of the policy of the United States. The 2018 Nuclear Posture Review announced that the United States will pursue initiatives to ensure the necessary capability, capacity, and responsiveness of the nuclear weapons infrastructure and the needed skill of the workforce, including providing the enduring capability and capacity to produce no fewer than 80 pits per year by 2030. The 2018 Nuclear Posture Review concludes that the United States must have sufficient research, design, development, and production capacity to support the sustainment of its nuclear forces.

To that end, DoD Under Secretary of Defense for Acquisition and Sustainment Ellen M. Lord and Under Secretary for Nuclear Security and Administrator of the NNSA Lisa Gordon-Hagerty issued a Joint Statement on May 10, 2018, identifying their recommended alternative to meet the pit production requirement based on the completion of an Analysis of Alternatives, an Engineering Assessment and a Workforce Analysis. To achieve the nation's requirement of producing no fewer than 80 pits per year by 2030, NNSA is proposing to repurpose the MFFF at SRS to produce plutonium pits while also maximizing pit production activities at LANL. This two-pronged approach—with a minimum of 50 pits per year produced at SRS and a minimum of 30 pits per year at LANL—is proposed as the best way to manage the cost, schedule, and risk of such a vital undertaking. This approach improves the resiliency, flexibility, and redundancy of our Nuclear Security Enterprise by reducing reliance on a single production site.

Purpose and Need for Agency Action

The security policies of the United States require the maintenance of a safe, secure, and reliable nuclear weapons stockpile and the maintenance of core competencies to design, manufacture, and maintain nuclear weapons. NNSA will pursue initiatives to meet national security requirements and ensure the necessary capability, capacity, and responsiveness of the nuclear weapons infrastructure and the needed skill of the workforce, including providing the enduring capability and capacity to produce no fewer than 80 plutonium pits per year by 2030. This need follows the requirements identified by the 2018 Nuclear Posture Review and Congressional statement of the policy of the United States (Pub. L. 115-232).

Alternatives Considered

NNSA proposes to prepare an EIS for the proposed action to repurpose the MFFF to produce a minimum of 50 pits per year at SRS. NNSA intends to evaluate the following alternatives in the EIS: (1) Proposed action to repurpose MFFF to produce a minimum of 50 pits per year; and (2) No Action Alternative. If any other reasonable alternatives are identified during the scoping period, NNSA will also evaluate those alternatives in the EIS. The EIS will include an analysis of potential impacts to the environment and human health from the proposed action, and an evaluation of potential impacts of the No Action Alternative.

The proposed action to repurpose the MFFF to produce a minimum of 50 pits per year would include, but not be limited to: Reconfiguration (including disassembly and removal of equipment and utility commodities) of the MFFF; installation of equipment necessary for activities associated with pit production (disassembly/metal preparation, pit assembly, machining, aqueous processing, foundry operations, material characterization and analytical chemistry operations for certification); constructing and repurposing other facilities surrounding the MFFF for support activities (e.g., waste handling, training, office space, roads, storage, and parking); security and nuclear safety upgrades to support pit production; providing reliable utilities and infrastructure required for pit production; and hiring and training necessary workforce to ensure the safe, secure, reliable, and responsive capability for pit production at SRS.

Site-Specific SRS EIS Process

The scoping process is intended to involve all interested agencies (Federal, State, county, and local), public interest groups, Native American Tribes, businesses, and members of the public. Interested parties are invited to participate in the EIS process, both to refine the preliminary alternatives and environmental issues to be analyzed in depth and to eliminate from detailed study those alternatives and environmental issues that are not reasonable or pertinent. Input from the scoping meeting will assist NNSA in formulating the proposed action, refining the alternatives, and defining the scope of EIS analyses.

Following the scoping period announced in this Notice, and after consideration of comments received during scoping, NNSA will prepare a draft EIS for the production of plutonium pits at SRS. NNSA will announce the availability of the draft EIS in the Federal Register and local media outlets. Comments received on the draft EIS will be considered and addressed in the Final EIS. NNSA will issue a record of decision (ROD) no sooner than 30 days after publication by the Environmental Protection Agency of a Notice of Availability of the Final EIS.

Relationship to Existing and Other NEPA Analyses

NNSA is responsible for management and implementation of the requirements of NEPA and the regulations and policies promulgated thereunder, including but not limited to the Council of Environmental Quality NEPA regulations (40 CFR parts1500-1508), the DOE NEPA implementing procedures (10 CFR part 1021), and NNSA Policy (NAP) 451.1.

Previously, NNSA prepared the Complex Transformation SPEIS to analyze the potential environmental impacts associated with pit production at different site alternatives: LANL in Los Alamos, New Mexico; SRS near Aiken, South Carolina; Pantex Plant near Amarillo, Texas; Y-12 National Security Complex in Oak Ridge, Tennessee; and the Nevada National Security Site north of Las Vegas, Nevada. At SRS, the Complex Transformation SPEIS also evaluated a pit production facility that would use the MFFF and pit disassembly and conversion facility infrastructure [73 FR 63470, October 24, 2008]. Additionally, pit production at LANL has been analyzed in several NEPA documents over the past two decades. Federal decisions (RODs) have authorized pit production levels of no more than approximately 20 pits per year at LANL [64 FR 50797, September 20, 1999]. However, higher levels of pit production have been analyzed in: The Complex Transformation SPEIS, which analyzed pit production levels as high as 125 pits per year for the 5 sites listed above [73 FR 77644, December 19, 2008]; and in the 2008 LANL Sitewide Environmental Impact Statement, which analyzed up to 80 pits per year at LANL in the Expanded Operations Alternative (DOE/EIS-0380, May 2008). Prior to making any decisions on producing a minimum of 30 pits per year at LANL and a minimum of 50 pits per year at SRS, NNSA will conduct further NEPA analyses as discussed below.

NNSA anticipates that it will prepare at least three documents including: A SA to the Final Complex Transformation Supplemental Programmatic EIS (Complex Transformation SPEIS); the site-specific EIS for the proposal to produce pits at SRS announced in this Notice; and site-specific documentation for the proposal to authorize expanding pit production beyond 20 pits per year at LANL.

NNSA is preparing a SA to the Complex Transformation SPEIS related to the proposed action for pit production. NNSA will use the SA to determine if there are significant changes in the proposed action which are substantial and relevant to environmental concerns or whether new circumstances or information relevant to environmental concerns and bearing on the proposed action or its impacts are significant. The SA would inform the site-specific documentation for the proposed pit production activities at both SRS and LANL. Although pertinent regulations do not require public comment on a SA, NNSA has decided, in its discretion, that public comment in this instance would be helpful and will issue a draft SA.

If the SA identifies no new significant circumstances or information relevant to environmental concerns that effect NNSA's decisions concerning pit production at a programmatic level, NNSA would announce the determination from the SA to the Complex Transformation SPEIS at the same time it would announce an amended ROD. If NNSA determines that a supplement to the Complex Transformation SPEIS or a new EIS is required, NNSA will announce those decisions as appropriate.

NNSA also intends to conduct site-specific NEPA analysis for expanded pit production activities at LANL to determine if there are significant changes in the proposed action which are substantial and relevant to environmental concerns or whether new circumstances or information relevant to environmental concerns and bearing on the proposed action or its impacts are significant. The type of site-specific analysis for producing a minimum of 30 pits per year at LANL will include a SA to the 2008 LANL Sitewide Environmental Impact Statement.

Depending on the results of the site-specific review at LANL, NNSA may announce an amended ROD or prepare additional NEPA documentation for the proposed action.

EIS Preparation and Schedule

NNSA expects to issue the draft EIS in 2020.

Signed in Washington, DC, this 31st day of May 2019, for the United States Department of Energy.
Lisa E. Gordon-Hagerty,
Under Secretary for Nuclear Security Administration, National Nuclear Security Administration.

[FR Doc. 2019-12003 Filed 6-7-19; 8:45 am]

BILLING CODE 6450-01-P